NATIONAL LABOR RELATIONS BOARD

Realignment of Regional Office Geographic Boundaries

AGENCY: National Labor Relations Board.

ACTION: Notice of geographic realignment of the following Regional Offices: Boston (Region 1), Buffalo (Region 3), Baltimore (Region 5), Pittsburgh (Region 6) and Cincinnati (Region 9).

SUMMARY: The National Labor Relations Board gives notice of its intent to realign the geographic boundaries between the Boston and Buffalo Regional Offices and between the Baltimore, Pittsburgh, and Cincinnati Regional Offices.

DATES: Effective Date: January 1, 2015.

FOR FURTHER INFORMATION CONTACT: Gary Shinners, Executive Secretary, 1099 14th Street NW., Room 11600, Washington, DC 20570. Telephone: (202) 273-1067.

SUPPLEMENTARY INFORMATION: The National Labor Relations Board has decided to realign the geographic boundaries between the Boston and Buffalo Regional Offices and between the Baltimore, Pittsburgh, and Cincinnati Regional Offices in order to improve service to the public, promote increased administrative efficiency and reduce travel costs and staff time spent in transit. Accordingly, the jurisdiction over the following counties is transferred as indicated.

County and State | Transferring region | Receiving region
Addison, Bennington, Chittenden, Franklin, Grand Isle, Lamoille, Orange, Rutland, Washington, Windham and Windsor Counties, VT | Boston | Buffalo.
Clay, Fayette, Nicholas, Raleigh and Wyoming Counties, WV | Cincinnati | Pittsburgh.
Grant, Hardy, Mineral and Pendleton Counties, WV | Baltimore | Pittsburgh.
Allegany and Garret Counties, MD | Baltimore | Pittsburgh.
Highland County, VA | Baltimore | Pittsburgh.

Cases that are pending as of the effective date of the realignment will remain in the Regional Office in which they were originally filed for further processing unless the parties to a specific case are advised otherwise by an order transferring that case. The addresses of the Regional Offices affected by the realignment are:

National Labor Relations Board, Region 1, 10 Causeway Street, 6th Floor, Boston, MA 02222-1072, (617) 565-6700.

National Labor Relations Board, Region 3, Niagara Center Building, 130 S. Elmwood Avenue, Suite 630, Buffalo, NY 14202-2387, (716) 551-4931.

National Labor Relations Board, Region 5, Bank of America Center, Tower II, 100 S. Charles Street, 6th Floor, Baltimore, MD 21201, (410) 962-2822.

National Labor Relations Board, Region 6, William S. Moorhead Federal Building, 1000 Liberty Avenue, Room 904, Pittsburgh, PA 15222-4111, (412) 395-4400.

National Labor Relations Board, Region 9, John Weld Peck Federal Building, 550 Main Street, Room 3003, Cincinnati, OH 45202-3271, (513) 684-3686.

Dated: December 2, 2014.
By direction of the Board.
William B. Cowen,
Solicitor, National Labor Relations Board.

[FR Doc. 2014-28587 Filed 12-5-14; 8:45 am]

BILLING CODE 7545-01-P